DEPARTMENT OF HOUSING AND URBAN DEVELOPMENT

[Docket No. FR-5603-N-81]

Notice of Submission of Proposed Information Collection to OMB; OneCPD Technical Assistance and Capacity Building Needs Assessment

AGENCY: Office of the Chief Information Officer, HUD.

ACTION: Notice.

SUMMARY: The proposed information collection requirement described below has been submitted to the Office of Management and Budget (OMB) for review, as required by the Paperwork Reduction Act. The Department is soliciting public comments on the subject proposal.

The OneCPD Needs Assessment will enhance a grantee's awareness of their functional capacity to effectively and efficiently administer and manage programs funded by CPD and enable HUD and the TA provider to better understand the scope of assistance needed by each grantee and to target appropriate TA resources to grantees. It will also enable HUD to identify trends in TA needs across grantees and assist in prioritizing the development of tools, products and group learning activities to benefit CPD grantees and subrecipients. Members of the affected public: Grantees and subrecipient organizations receiving funding to operate and manage programs administered by the Office of Community Planning and Development (CPD).

DATES: Comments Due Date: December 19, 2012.

ADDRESSES: Interested persons are invited to submit comments regarding this proposal. Comments should refer to the proposal by name and/or OMB approval Number (2506-New) and should be sent to: HUD Desk Officer, Office of Management and Budget, New Executive Office Building, Washington, DC 20503; fax: 202-395-5806. Email: OIRA_Submission@omb.eop.gov fax: 202-395-5806.

FOR FURTHER INFORMATION CONTACT: Colette Pollard, Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: OneCPD Technical Assistance and Capacity Building Needs Assessment.

OMB Approval Number: 2506-New.

Form Numbers: None.

Description of the need for the information and proposed use:The OneCPD Needs Assessment will enhance a grantee's awareness of their functional capacity to effectively and efficiently administer and manage programs funded by CPD and enable HUD and the TA provider to better understand the scope of assistance needed by each grantee and to target appropriate TA resources to grantees. It will also enable HUD to identify trends in TA needs across grantees and assist in prioritizing the development of tools, products and group learning activities to benefit CPD grantees and subrecipients. Members of the affected public: Grantees and subrecipient organizations receiving funding to operate and manage programs administered by the Office of Community Planning and Development (CPD).

Estimation of the total number of hours needed to prepare the information collection including number of respondents, frequency of response, and hours of response: 180 respondents × 176.4 average hours per response = 31,752 hours annually.

Status: New collection.

Authority: Section 3507 of the Paperwork Reduction Act of 1995, 44 U.S.C. 35, as amended.

Dated: November 13, 2012.
Colette Pollard,
Department Reports Management Officer, Office of the Chief Information Officer.

[FR Doc. 2012-28084 Filed 11-16-12; 8:45 am]

BILLING CODE 4210-67-P